ENVIRONMENTAL PROTECTION AGENCY

[EPA-HQ-OPP-2010-0014; FRL-9902-41]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registration has been cancelled only if such sale, distribution, or use is consistent with the terms as described in the final order.

DATES: Comments must be received on or before June 2, 2014.

ADDRESSES: Submit your comments, identified by docket identification (ID) number EPA-HQ-OPP-2010-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal requests by mail to: Pesticide Re-Evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 31 pesticide products registered under FIFRA section 3 or 24(c). These registrations are listed in sequence by registration number (or company number and FIFRA section 24(c) number) in Table 1 of this unit.

Unless the Agency determines that there are substantive comments that warrant further review of the requests or the registrants withdraw their requests, EPA intends to issue an order in the Federal Register canceling all of the affected registrations.

Table 1—Registrations With Pending Requests for Cancellation
Registration No. | Product name | Chemical name
000004-00406 | Eight Insect Control Garden & Home Insect Control Ready-to-Use | Permethrin.
000241-00379 | Raptor Herbicide | Imazamox.
000264-00940 | Gustafson Vitavax-PCNB Flowable Fungicide | Pentachloronitrobenzene & Carboxin.
000264-00943 | RTU-Vitavax-Thiram Seed Protectant Fungicide | Thiram & Carboxin.
000264-00948 | Gustafson LSP Flowable Fungicide | Thiabendazole.
000264-00952 | Kodiak HB Biological Fungicide | Bacillus subtilis GB03.
000264-00953 | Kodiak A-T Fungicide | Pentachloronitrobenzene, Bacillus subtilis GB03 & Metalaxyl.
000264-00958 | Tops MZ Potato Seed-Piece Treatment Fungicide | Mancozeb & Thiophanate-methyl.
000264-00974 | Gustafson AG-Streptomycin | Streptomycin sulfate.
000264-00984 | Titan FL | Clothianidin, Thiram, Metalaxyl & Carboxin.
000264-01013 | Ipconazole Metalaxyl MD (S) | Metalaxyl & Ipconazole.
000264-01014 | Gustafson Allegiance Dry Seed Protectant Fungicide | Metalaxyl.
000264-01015 | Prevail Allegiance Terraclor Vitavax Fungicide | Pentachloronitrobenzene, Carboxin & Metalaxyl.
000264-01016 | Stiletto Pak | Thiram, Carboxin & Metalaxyl.
000264-01017 | Imidacloprid Vitavax Metalaxyl Seed Treatment | Carboxin, Imidacloprid & Metalaxyl.
000264-01018 | Protector-L-Allegiance | Thiram & Metalaxyl.
000264-01019 | Stiletto | Thiram, Carboxin & Metalaxyl.
000264-01035 | Prosper T200 Insecticide and Fungicide Seed Treatment | Metalaxyl, Carboxin, Trifloxystrobin & Clothianidin.
000264-01079 | Three-Way VAP | Clothianidin, Ipconazole & Metalaxyl.
000264-01082 | Proceed Plus | Metalaxyl, Tebuconazole, Prothioconazole & Clothianidin.
000464-00667 | Bioban CS-1246 | Oxazolidine-E.
035935-00076 | Prodiamine Technical | Prodiamine.
053883-00029 | Viper WP | Cypermethrin.
062719-00505 | GF-120 NF Naturalyte Fruit Fly Bait | Spinosad.
067517-00047 | Hard Hitter Wettable Powder | Permethrin.
069361-00033 | Propicon 3.6 EC Fungicide | Propiconazole.
AZ-080015 | Proclipse 65 WDG | Prodiamine.
CA-080022 | Proclipse 65 WDG | Prodiamine.
CO-940006 | Comite II | Propargite.
MA-050002 | Abound Flowable Fungicide | Azoxystrobin.
OR-090001 | Sluggo Slug and Snail Bait | Phosphoric acid, iron(3+) salt (1:1).

Table 2 of this unit includes the names and addresses of record for all registrants of the products in Table 1 of this unit, in sequence by EPA company number. This number corresponds to the first part of the EPA registration numbers of the products listed in this unit.

Table 2—Registrants Requesting Voluntary Cancellation
EPA Company No. | Company name and address
4 | Bonide Products, Inc., Agent: Registrations By Design Inc., P.O. Box 1019, Salem, VA 24153-1019.
241 | BASF Corporation, 26 Davis Drive, P.O. Box 13528, Research Triangle Park, NC 27709-3528.
264 | Bayer CropScience LP, 2 TW Alexander Drive, P.O. Box 12014, Research Triangle Park, NC 27709.
464 | The Dow Chemical Company, 1500 East Lake Cook Road, Buffalo Grove, IL 60089.
35935 | Nufarm Limited, Agent: Nufarm Limited, 4020 Aerial Center Pkwy, Suite 103, Morrisville, NC 27560.
53883 | Controls Solutions, Inc., 5903 Genoa-Red Bluff Road, Pasadena, TX 77507-1041.
62719 | Dow AgroSciences, 9330 Zionsville Road, Indianapolis, IN 46268.
67517 | Virbac Animal Health, 3200 Meacham Boulevard, Fort Worth, TX 76137.
69361 | Repar Corp, Agent: Madava Associates, LLC, 1050 Connecticut Ave. NW., Suite 1000, Washington, DC 20036.
AZ-080015, CA-080022 | Nufarm Americas, Inc., Agent: Nufarm Americas, Inc., 4020 Aerial Center Pkwy, Suite 101, Morrisville, NC 27560.
CO-940006 | Chemtura Corporation, 199 Benson Road, Middlebury, CT 06749.
MA-050002 | Syngenta Crop Protection, LLC, 410 Swing Road, P.O. Box 18300, Greensboro, NC 27419-8300.
OR-090001 | W. Neudorff GMBH KG, 1008 Riva Ridge Drive, Great Falls, VA 22066.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the cancellation order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: November 21, 2013.
Michael Goodis,
Acting Director, Pesticide Re-Evaluation Division, Office of Pesticide Programs.

[FR Doc. 2013-28941 Filed 12-3-13; 8:45 am]

BILLING CODE 6560-50-P